ENVIRONMENTAL PROTECTION AGENCY

[FRL-8897-8]

Science Advisory Board Staff Office; Request for Nominations of Experts for the Review of Technical Guidance on Nutrient Criteria Development

AGENCY: Environmental Protection Agency (EPA).

ACTION: Notice.

SUMMARY: The EPA Science Advisory Board (SAB) Staff Office is requesting nominations of non-EPA experts to augment the SAB Ecological Processes and Effects Committee (EPEC) for the review of EPA's draft Technical Guidance on Empirical Approaches for Numeric Nutrient Criteria Development.

DATES: Nominations should be submitted by May 18, 2009 per instructions below.

FOR FURTHER INFORMATION CONTACT: Any member of the public wishing further information regarding this Notice and Request for Nominations may contact Dr. Thomas Armitage, Designated Federal Officer (DFO), SAB Staff Office, by telephone/voice mail at (202) 343-9995; by fax at (202) 233-0643 or via e-mail at armitage.thomas@epa.gov.

General information concerning the EPA Science Advisory Board can be found on the EPA SAB Web site at http://www.epa.gov/sab. Any inquiry concerning EPA's Technical Guidance on Empirical Approaches for Numeric Nutrient Criteria Development should be directed to Ms. Ifeyinwa Davis of EPA's Office of Water (OW) at davis.ifeyinwa@epa.gov or (202) 566-1096.

SUPPLEMENTARY INFORMATION:

Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. C) and related regulations. Generally, SAB meetings are announced in the Federal Register, conducted in public view, and provide opportunities for public input during deliberations. The Ecological Processes and Effects Committee is a standing committee of the chartered SAB. Additional information about the SAB and its committees can be obtained on the SAB Web site at http://www.epa.gov/sab.

Nutrient enrichment is one of the leading causes of surface water quality impairment in the U.S. The adoption of numeric nutrient criteria in state water quality standards for the protection of aquatic life is a high priority for EPA's Office of Water (OW). EPA published technical guidance for developing numeric nutrient water quality criteria in early 2000. The EPA guidance focused on the use of reference condition approaches for deriving nutrient criteria. Because many states are currently pursuing the use of empirically-derived stressor-response relationships as the basis for developing numeric nutrient endpoints for water quality standards, OW is developing recommendations for using a set of analytical methods and tools to augment EPA's published guidance manuals. EPA has requested that the SAB review the Agency's draft Technical Guidance on Empirical Approaches for Numerical Nutrient Criteria Development. In this regard, EPA has specifically requested advice on: the practical use of field data; addressing confounding variables and uncertainty; addressing indirect pathways of adverse effects; and the strengths and limitations of proposed approaches for deriving numeric values for nutrient endpoints. This advice will be provided by the SAB EPEC augmented with experts who have specialized knowledge of the effects of nutrient enrichment on freshwater, marine, and estuarine ecosystems.

Request for Nominations

To augment expertise on the SAB EPEC for review of EPA's nutrient criteria guidance, the SAB Staff Office is seeking nominations of nationally and internationally recognized scientists in fields such as ecology, biology, environmental science, risk assessment, statistics, and zoology. We particularly seek scientists with specialized knowledge and expertise in the use of empirically-derived stressor-response relationships as the basis for developing nutrient assessment endpoints and criteria for the protection of aquatic life.

Process and Deadline for Submitting Nominations: Any interested person or organization may nominate individuals qualified in the area of science as described above to be considered for appointment to augment this SAB Committee. Candidates may also nominate themselves. Nominations should be submitted in electronic format (which is preferred over hard copy) following the instructions for “Nominating Experts to Advisory Panels and Ad Hoc Committees Being Formed” provided on the SAB Web site. The form can be accessed through the “Nomination of Experts” link on the blue navigational bar on the SAB Web site at http://www.epa.gov/sab. To receive full consideration, nominations should include all of the information requested, and should be submitted in time to arrive no later than May 18, 2009.

EPA's SAB Staff Office requests contact information about: the person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Dr. Thomas Armitage, DFO, at the contact information provided above in this notice. Non-electronic submissions must follow the same format and contain the same information as the electronic.

The SAB Staff Office will acknowledge receipt of the nomination and inform nominees of the Committee for which they have been nominated. From the nominees identified by respondents to this Federal Register notice (termed the “Widecast”) and other sources, the SAB Staff Office will develop a smaller subset (known as the “Short List”) for more detailed consideration. The Short List will be posted on the SAB Web site at http://www.epa.gov/sab and will include, for each candidate, the nominee's name and biosketch. Public comments on the Short List will be accepted for 21 calendar days. During this comment period, the public will be requested to provide information, analysis, or other documentation on nominees that the SAB Staff Office should consider in evaluating candidates for the Committee.

For the SAB, a balanced Committee is characterized by inclusion of candidates who possess the necessary domains of knowledge, the relevant scientific perspectives (which, among other factors, can be influenced by work history and affiliation) and the collective breadth of experience to adequately address the charge. Public responses to the Short List candidates will be considered in the selection of the Committee, along with information provided by candidates and information gathered by SAB Staff independently concerning the background of each candidate (e.g., financial disclosure information and computer searches to evaluate a nominee's prior involvement with the topic under review). Specific criteria to be used in evaluation of an individual Committee member include: (a) Scientific and/or technical expertise, knowledge, and experience (primary factors); (b) absence of financial conflicts of interest; (c) scientific credibility and impartiality; (d) availability and willingness to serve; and (e) ability to work constructively and effectively in committees.

Prospective candidates will be required to fill out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. Ethics information, including EPA Form 3110-48, is available on the SAB Web site at http://yosemite.epa.gov/sab/sabproduct.nsf/Web/ethics?OpenDocument.

Dated: April 20, 2009.
Anthony F. Maciorowski,
Deputy Director, EPA Science Advisory Board Staff Office.

[FR Doc. E9-9570 Filed 4-24-09; 8:45 am]

BILLING CODE 6560-50-P